FEDERAL COMMUNICATIONS COMMISSION

47 CFR Part 1

[WT Docket No. 03-128; FCC 04-222]

The Nationwide Programmatic Agreement Regarding Section 106 National Historic Preservation Act Review Process, Advisory Council on Historic Preservation

AGENCY: Federal Communications Commission.

ACTION: Final rule; announcement of effective date.

SUMMARY: In this document, the Commission announces that the Office of Management and Budget (OMB) has approved, until October 31, 2014, an emergency information collection associated with the Nationwide Programmatic Agreement Regarding the Section 106 National Historic Preservation Act Review Process. With this document, the Commission is announcing OMB approval and the effective date of the revised requirements.

DATES: FCC Forms 620, 621 and the Tower Construction Notification System were approved by OMB on April 9, 2014 and are effective on May 16, 2014.

FOR FURTHER INFORMATION CONTACT: For additional information contact Cathy Williams, Cathy.Williams@fcc.gov <mailto:Cathy.Williams@fcc.gov>, (202) 418-2918.

SUPPLEMENTARY INFORMATION: This document announces that, on April 9, 2014, OMB approved the revised information collection requirements for Nationwide Programmatic Agreement Regarding the Section 106 National Historic Preservation Act Review Process published at 70 FR 556, January 4, 2005. The OMB Control Number is 3060-1039. The Commission publishes this notice as an announcement of the effective date of the requirements. If you have any comments on the burden estimates listed below, or how the Commission can improve the collections and reduce any burdens caused thereby, please contact Cathy Williams, Federal Communications Commission, Room 1-C823, 445 12th Street SW., Washington, DC 20554. Please include the OMB Control Number, 3060-1039, in your correspondence. The Commission will also accept your comments via the Internet if you send them to PRA@fcc.gov <mailto:PRA@fcc.gov>.

To request materials in accessible formats for people with disabilities (Braille, large print, electronic files, audio format), send an email to fcc504@fcc.gov <mailto:fcc504@fcc.gov> or call the Consumer and Governmental Affairs Bureau at (202) 418-0530 (voice), (202) 418-0432 (TTY).

Synopsis

As required by the Paperwork Reduction Act of 1995 (44 U.S.C. 3507), the FCC is notifying the public that it received OMB approval on April 9, 2014, for the revised information collection requirements contained in the information collection 3060-1039.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1039.

The foregoing notice is required by the Paperwork Reduction Act of 1995, Public Law 104-13, October 1, 1995, and 44 U.S.C. 3507.

The total annual reporting burdens and costs for the respondents are as follows:

OMB Control Number: 3060-1039.

OMB Approval Date: April 9, 2014.

OMB Expiration Date: October 31, 2014.

Title: Nationwide Programmatic Agreement Regarding the Section 106 National Historic Preservation Act Review Process, WT Docket No. 03-128.

Form No.: FCC Forms 620 and 621; TCNS E-Filing.

Respondents: Business or Other For-Profit Entities; Not-For-Profit Institutions; State, Local or Tribal Governments.

Number of Respondents and Responses: 13,500 respondents and 13,500 responses.

Estimated Time per Response: 5 to 20 hours.

Frequency of Response: On occasion reporting requirement, Recordkeeping requirement, Third party disclosure requirement.

Obligation to Respond: Required to obtain or retain benefits. The statutory authority for this collection of information is contained in sections 1, 4(i), 303(q), 303(r), 309(a), 309(j) and 319 of the Communications Act of 1934, as amended, 47 U.S.C. 151, 154(i), 303(q), 303(r), 309(a), 309(j) and 319, sections 101(d)(6) and 106 of the National Historic Preservation Act (NHPA) of 1966, 16 U.S.C. 470a(d)(6) and 470f, 47 CFR 800.14(b) of the Advisory Council on Historic Preservation.

Total Annual Burden: 97,929 hours.

Total Annual Cost: $13,087,425.

Nature and Extent of Confidentiality: In general there is no need for confidentiality. On a case by case basis, the Commission may be required to withhold from disclosure certain information about the location, character, or ownership of a historic property, including traditional religious sites.

Privacy Impact Assessment: No impact(s).

Needs and Uses: The data is used by FCC staff, State Historic Preservation Officers (SHPO), Tribal Historic Preservation Officers (THPO) and the Advisory Council of Historic Preservation (ACHP) to take such action as may be necessary to ascertain whether a proposed action may affect sites of cultural significance to Tribal Nations and historic properties that are listed or eligible for listing on the National Register as directed by Section 106 of the National Historic Preservation Act (NHPA) and the Commission's rules.

FCC Form 620, New Tower (NT) Submission Packet is to be completed by or on behalf of applicants to construct new antenna support structures by or for the use of licensees of the FCC. The form is to be submitted to the State Historic Preservation Office (“SHPO”) or to the Tribal Historic Preservation Office (“THPO”), as appropriate, and the Commission before any construction or other installation activities on the site begins. Failure to provide the form and complete the review process under Section 106 of the NHPA prior to beginning construction may violate Section 110(k) of the NHPA and the Commission's rules.

FCC Form 621, Collocation (CO) Submission Packet is to be completed by or on behalf of applicants who wish to collocate an antenna or antennas on an existing communications tower or non-tower structure by or for the use of licensees of the FCC. The form is to be submitted to the State historic Preservation Office (“SHPO”) or to the Tribal Historic Preservation Office (“THPO”), as appropriate, and the Commission before any construction or other installation activities on the site begins. Failure to provide the form and complete the review process under Section 106 of the NHPA prior to beginning construction or other installation activities may violate Section 110(k) of the NHPA and the Commission's rules.

The Tower Construction Notification System (TCNS) is used by or on behalf of Applicants proposing to construct new antenna support structures, and some collocations, to ensure that Tribal Nations have the requisite opportunity to participate in review prior to construction. To facilitate this coordination, Tribal Nations have designated areas of geographic preference, and they receive automated notifications based on the site coordinates provided in the filing. Applicants complete TCNS before filing a 620 or 621 and all the relevant data is pre-populated on the 620 and 621 when the forms are filed electronically.

Federal Communications Commission.
Gloria J. Miles,
Federal Register Liaison, Office of the Secretary, Office of Managing Director.

[FR Doc. 2014-10768 Filed 5-9-14; 8:45 am]

BILLING CODE 6712-01-P